DEPARTMENT OF JUSTICE

Antitrust Division

Notice Pursuant to the National Cooperative Research and Production Act of 1993 Cooperative Research Group on Development and Evaluation of a Gas Chromatograph Testing Protocol

Correction

In notice document E8-15670 appearing on page 40882 in the issue of Wednesday, July 16, 2008, make the following corrections:

1. On page 40882, in the first column, in the first paragraph, in the fourth line from the bottom, “PP Pipelines” should read “BP Pipelines”.

2. On the same page, in the same column, in the same paragraph, in the second line from the bottom, “GMEH” should read “GMBH”.

[FR Doc. Z8-15670 Filed 8-12-08; 8:45 am]

BILLING CODE 1505-01-D